DEPARTMENT OF THE INTERIOR

Bureau of Reclamation

[INT-FES 11-02]

Cle Elum Dam Fish Passage Facilities and Fish Reintroduction Project; Kittitas County, WA

AGENCY: Bureau of Reclamation, Interior.

ACTION: Notice of availability of the Final Environmental Impact Statement (FEIS) for the Cle Elum Dam Fish Passage Facilities and Fish Reintroduction Project.

SUMMARY: The Bureau of Reclamation (Reclamation) is notifying the public that it has prepared an FEIS on the proposed Cle Elum Dam Fish Passage Facilities and Fish Reintroduction Project. The Washington State Department of Ecology is a joint lead with Reclamation in the preparation of the FEIS, in coordination with the Washington Department of Fish and Wildlife and the Yakama Nation. The Bonneville Power Administration has assumed the role of a cooperating agency. The FEIS will also be used to comply with requirements of the Washington State Environmental Policy Act.

Reclamation published a Draft EIS in the Federal Register on February 3, 2010 (75 FR 562622) with a public comment period ending on March 22, 2010. Revisions were made in the FEIS to incorporate responses to comments. The FEIS also identifies Alternative 3, Right Bank Juvenile Passage with Right Bank Adult Passage without Barrier Dam as the preferred alternative.

DATES: Reclamation will not make a decision on the proposed action until at least 30 days after filing of the FEIS with the Environmental Protection Agency. After the 30-day waiting period, Reclamation will complete a Record of Decision. The Record of Decision will identify the selected action for implementation and will discuss factors and rationale used in making the decision.

ADDRESSES: Bureau of Reclamation, Columbia-Cascades Area Office, attention: Candace McKinley, Environmental Program Manager, 1917 Marsh Road, Yakima, Washington 98901.

FOR FURTHER INFORMATION CONTACT: Candace McKinley, Environmental Program Manager, Telephone (509) 575-5848, ext. 276, fax: (509) 454-5650. The FEIS and other information on this project can be found at http://www.usbr.gov/pn/programs/ucao_misc/fishpassage/. To receive a hard copy or compact disc of the FEIS refer to the above contact.

SUPPLEMENTARY INFORMATION: Pursuant to Section 102(2)(C) of the National Environmental Policy Act (NEPA) of 1969, as amended, Reclamation is evaluating the construction of downstream juvenile fish passage and upstream adult fish passage alternatives at the dam for the Cle Elum Dam Fish Passage Facilities Project. Cle Elum Dam did not include fish passage facilities when constructed in 1933; consequently, fish passage to upstream habitat for fish species was blocked.

As part of the effort to restore fish above Cle Elum Dam, the Washington Department of Fish and Wildlife, in collaboration with the Yakama Nation, is evaluating the implementation of a project to reintroduce fish populations above the dam. The reintroduction plan would involve the transportation and release of adults for natural spawning and potentially hatchery supplementation techniques to restore fish above the dam.

Early in 2001, Yakima River basin interest groups urged Reclamation to incorporate fish passage facilities as part of the reconstruction of Keechelus Dam under the Safety of Dams program. Reclamation determined that fish passage facilities could not be added under existing Safety of Dams authority. However, in the January 2002 Record of Decision for Keechelus Dam Modification EIS, Reclamation committed to seek funding under existing authorities to conduct a feasibility study for providing fish passage at all Yakima Project storage dams. Additionally, Reclamation agreed to mitigation agreement terms and Hydraulic Project Approval conditions with Washington Department of Fish and Wildlife to investigate fish passage feasibility. In 2003, Reclamation prevailed in a suit filed by the Yakama Nation concerning the NEPA and Endangered Species Act compliance for the Keechelus Safety of Dams project. The Yakama Nation then appealed that decision to the 9th Circuit Court of Appeals. In 2006, Reclamation and the Yakama Nation entered into a settlement agreement to resolve litigation in which the parties agreed to collaborate to prepare technical plans and a planning report for fish passage at Cle Elum and Bumping Lake Dams. This FEIS is part of the agreed-upon planning process for Cle Elum Dam only. An EIS for Bumping Lake fish passage will be prepared separately at a future time.

Public Disclosure

Before including your name, address, phone number, e-mail address, or other personal identifying information in any correspondence, you should be aware that your entire correspondence—including your personal identifying information—may be made publicly available at any time. While you can ask us in your correspondence to withhold your personal identifying information from public view, we cannot guarantee that we will be able to do so.

Dated: January 5, 2011.
Karl E. Wirkus,
Regional Director, Pacific Northwest Region.

[FR Doc. 2011-8862 Filed 4-12-11; 8:45 am]

BILLING CODE 4310-MN-P